DEPARTMENT OF HOMELAND SECURITY

Coast Guard

33 CFR Part 117

[CGD01-04-080]

Drawbridge Operation Regulations: Jamaica Bay and Connecting Waterways, NY

AGENCY: Coast Guard, DHS.

ACTION: Notice of temporary deviation from regulations.

SUMMARY: The Commander, First Coast Guard District, has issued a temporary deviation from the drawbridge operation regulations for the Marine Parkway Bridge across Jamaica Bay, mile 3.0, between Brooklyn and Queens, New York. This temporary deviation will allow the bridge to open (50) fifty feet less than the normal opening vertical clearance from August 16, 2004, through October 10, 2004. This temporary deviation is necessary to facilitate maintenance repairs at the bridge.

DATES: This deviation is effective from August 16, 2004, through October 10, 2004.

FOR FURTHER INFORMATION CONTACT: Ms. Judy Leung-Yee, Project Officer, First Coast Guard District Bridge Branch, (212) 668-7195.

SUPPLEMENTARY INFORMATION: The normal vertical clearance under the Marine Parkway Bridge in the full open position is 152 feet at mean high water and 156 feet at mean low water. The existing regulations are listed at 33 CFR 117.795(a).

The bridge owner, MTA Bridges and Tunnels Authority, requested a temporary deviation from the Drawbridge Operation Regulations to facilitate necessary maintenance repairs at the bridge.

During the bridge repairs safety netting will be suspended under the bridge towers preventing the bridge from fully opening and therefore reducing the vertical clearance during bridge openings by (50) fifty feet.

The normal maximum vertical clearance under the bridge in the full open position is 156 feet at mean low water and 152 feet at mean high water. A review of the bridge opening logs and opening requests revealed that the bridge normally does not open more than (90) ninety feet for the passage of vessel traffic. As a result none of the normal waterway users should be affected by this vertical clearance reduction.

Under this temporary deviation the Marine Parkway Bridge, mile 3.0, across Jamaica Bay, shall open for vessel traffic only up to a maximum of 106 feet at mean low water and 102 feet at mean high water from August 16, 2004, through October 10, 2004.

This deviation from the operating regulations is authorized under 33 CFR 117.35, and will be performed with all due speed in order to return the bridge to normal operation as soon as possible.

Dated: July 14, 2004.
David P. Pekoske,
Rear Admiral, U.S. Coast Guard, Commander, First Coast Guard District.

[FR Doc. 04-16838 Filed 7-22-04; 8:45 am]

BILLING CODE 4910-15-P